DEPARTMENT OF ENERGY

Federal Energy Regulatory Commission

[Docket No. RP02-76-000]

Williams Gas Pipelines Central, Inc.; Notice of Proposed Changes in FERC Gas Tariff

December 5, 2001.

Take notice that on November 29, 2001, Williams Gas Pipelines Central, Inc. (Williams) tendered for filing as part of its FERC Gas Tariff, Original Volume No. 1, Twentieth Revised Sheet No. 6A, to become effective January 1, 2002.

Williams states that pursuant to Order Approving Settlement, issued April 29, 1998, in Docket No. RP97-149-003, et al. as modified by the Commission's Order dated September 19, 2001, in Docket No. RP01-434-000 and Williams FERC Gas Tariff, Original Volume No. 1, Article 25 of its General Terms and Conditions, Williams is filing to reflect the new GRI surcharges to be collected on nondiscounted transportation services.

Williams states that copies of this filing have been served on all of Williams' jurisdictional customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30567 Filed 12-10-01; 8:45 am]

BILLING CODE 6717-01-P